FEDERAL COMMUNICATIONS COMMISSION

[OMB 3060-0204, 3060-1237; FRS 16588]

Information Collections Being Reviewed by the Federal Communications Commission Under Delegated Authority

AGENCY: Federal Communications Commission.

ACTION: Notice and request for comments.

SUMMARY: As part of its continuing effort to reduce paperwork burdens, and as required by the Paperwork Reduction Act (PRA) of 1995, the Federal Communications Commission (FCC or the Commission) invites the general public and other Federal agencies to take this opportunity to comment on the following information collection. Comments are requested concerning: Whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees. The FCC may not conduct or sponsor a collection of information unless it displays a currently valid control number. No person shall be subject to any penalty for failing to comply with a collection of information subject to the PRA that does not display a valid Office of Management and Budget (OMB) control number.

DATES: Written PRA comments should be submitted on or before May 26, 2020. If you anticipate that you will be submitting comments, but find it difficult to do so within the period of time allowed by this notice, you should advise the contact listed below as soon as possible.

ADDRESSES: Direct all PRA comments to Nicole Ongele, FCC, via email PRA@fcc.gov and to Nicole.Ongele@fcc.gov.

FOR FURTHER INFORMATION CONTACT: For additional information about the information collection, contact Nicole Ongele at (202) 418-2991.

SUPPLEMENTARY INFORMATION:

OMB Control Number: 3060-0204.

Title: Special Eligibility Showings for Authorizations in the Public Safety Pool (47 CFR 90.20(a)(2)(v) and 90.20(a)(2)(xi)).

Form Number: Not applicable.

Type of Review: Extension of a currently approved collection.

Respondents: Individuals or household and business or other for-profit.

Number of Respondents and Responses: 220 respondents; 220 responses.

Estimated Time per Response: 0.704 hours (range of 15 minutes to 45 minutes).

Frequency of Response: One-time reporting requirement.

Obligation to Respond: Required to obtain or retain benefits. Statutory authority for the collections of information is contained in Sections 154(i), 161, 303(g), 303(r), 332(c)(7).

Total Annual Burden: 155 hours.

Total Annual Cost: No Cost.

Privacy Act Impact Assessment: Yes. The information collection in 47 CFR 90.20(a)(2)(v) affects individuals, and there is a system of records that covers it (FCC/WTB-1, Wireless Services Licensing Records).

Nature and Extent of Confidentiality: Requests to withhold information submitted to the Commission from public inspection will be treated in accordance with section 0.459 of the Commission's rules.

Needs and Uses: The Commission collects this information to ensure that certain non-governmental applicants applying for the use of frequencies in the Public Safety Pool meet the eligibility criteria set forth in the Commission's rules.

OMB Control Number: 3060-1237.

Title: FCC EEO Informal Complaint and Formal Complaint forms.

Form Number: FCC Form-5621, FCC Form-5622.

Type of Review: Extension of a currently approved collection.

Respondents: Individuals or households; Federal Government.

Number of Respondents and Responses: 23 respondents; 23 responses.

Estimated Time per Response: 2.5 hours-5 hours.

Frequency of Response: One-time reporting requirement.

Obligation to Respond: Voluntary. Statutory authority for these collections is contained in the Civil Rights Act of 1964 § 7, as amended, 42 U.S.C. 2000e; Age Discrimination in Employment act of 1967 (ADEA), 29 U.S.C. 621-634; Americans with Disabilities Act of 1990 (ADA), as amended, 42 U.S.C. 12101-12213; Rehabilitation Act of 1973, as amended, 29. U.S.C. 501 et seq.

Total Annual Burden: 67 hours.

Total Annual Cost: $8,000.

Privacy Act Impact Assessment: Yes. The PII in this information collection is covered by the Equal Employment Opportunity Commission's Government-wide System of Records Notice or “SORN,” EEOC/GOVT-1, Equal Employment Opportunity in the Federal Government's Complaint and Appeal Records.

Nature and Extent of Confidentiality: Confidentiality of information will be provided in accordance with the Privacy Act. The Commission is not requesting respondents to submit confidential information to the Commission. If the Commission requests respondents to submit information which respondents believe is confidential, respondents may request confidential treatment of such information pursuant to section 0.459 of the Commission's rules, 47 CFR 0.459.

Needs and Uses: FCC employees and related individuals may seek a forum through the Office of Workplace Diversity to resolve, investigate, and issue Final Agency Decisions regarding allegations of discrimination and/or retribution or reprisals by completing FCC Form-5621 and/or FCC Form-5622.

Federal Communications Commission.
Cecilia Sigmund,
Federal Register Liaison Officer, Office of the Secretary.

[FR Doc. 2020-06155 Filed 3-23-20; 8:45 am]

BILLING CODE 6712-01-P